DEPARTMENT OF TRANSPORTATION

Federal Highway Administration

Rescinding the Notice of Intent for an Environmental Impact Statement (EIS): Lancaster County, Pennsylvania

AGENCY: Federal Highway Administration (FHWA), DOT.

ACTION: Rescind Notice of Intent to prepare an EIS.

SUMMARY: This notice rescinds the Notice of Intent for preparing an Environmental Impact Statement (EIS) for a proposed highway in Lancaster County, Pennsylvania. The project study area includes PA 23 Sub corridor in Earl Township, East Earl Township, East Lamepeter Township, Manheim Township, Upper Leacock Township, and New Holland Borough, Lancaster County, Pennsylvania. The original Notice of Intent for this EIS process was published in the Federal Register on September 22, 1999.

FOR FURTHER INFORMATION CONTACT: Dan Walston, Transportation Planning Specialist, Federal Highway Administration, Pennsylvania Division, 228 Walnut Street, Room 508, Harrisburg, Pennsylvania 17101-1720, Telephone: (717) 221-2290 (email: Christopher.Walston@dot.gov), or Mark Malhenzie, Senior Project Manager, District 8 Highway Design Unit, Pennsylvania Department of Transportation, 2140 Herr Street, Harrisburg, Pennsylvania 17101-1720, Telephone: 717-783-5080 (email: mmalhenzie@pa.gov.)

SUPPLEMENTARY INFORMATION: The Federal Highway Administration (FHWA) in cooperation with the Pennsylvania Department of Transportation (PennDOT) and the Lancaster County Planning Commission initiated an Environmental Impact Statement (EIS) with a Notice of Intent, September 22, 1999, to identify and evaluate alternatives to address transportation problems within the PA 23 Sub corridor. The proposed project would involve improvements to transportation conditions in the PA 23 Sub corridor from the PA 23/U.S. Route 30 interchange on the west to U.S. route 322 on the east. Notices of Intent concerning this proposal were previously published in the Federal Register on February 27, 1987, to advise the public that an EIS would be prepared to identify and evaluate alternatives to provide a viable means of relieving traffic congestion on PA 23 and U.S. Route 30 in Lancaster County. Public concerns redirected the scope of the project and a revised Notice of Intent was published on June 16, 1988. The intent of the second Notice was to advise the public that separate EIS's would be prepared to identify and evaluate alternatives to relieve traffic congestion on PA 23 and U.S. Route 30 independently.

In 1997, the Lancaster County Transportation Coordinating Committee (Lancaster County MPO) was the lead agency for the PA 23 Corridor Major Investment Study (MIS), consistent with the requirements of the Intermodal Surface Transportation Efficiency Act of 1991. The PA 23 Corridor Study MIS gathered various types of data which resulted in the identification of transportation needs and led to the development of alternatives. Typical areas of concern identified by various members of the public and resource agencies during the MIS studies included, but were not limited to, the following: socioeconomic and land use impacts; the unique social sub-groups; effects on cultural, and natural resources; agricultural preservation; roadway safety; business-industry; tourism; and economic stability.

The PA 23 Corridor Study MIS demonstrated present and future transportation problems in the PA 23 Sub corridor from U.S. Route 30 to the U.S. route 322 intersection east of New Holland, a distance of approximately 21.5 km (13.4 miles). Transportation needs in the PA 23 Sub corridor included congestion, decreasing levels of service, traffic diversion from PA 23 to local roads, and a mix of motorized and non-motorized means of travel. Improvements to the corridor were considered necessary to provide for the existing and projected transportation demands.

A range of transportation alternatives, including No-Build, Transportation Systems Management (TSM), Traffic Control Measures (TCM), and Travel Demand Management (TDM), Transit Widening and Relocation alternatives were developed consistently with land use strategies to address the identified transportation needs. The developments of alternatives were based on traffic demands, engineering requirements, environmental and socioeconomic constraints, the country's growth management plan, and public input. Public involvement and inter-agency coordination were maintained throughout the development of the EIS.

Due to funding constraints the Notice of Intent is rescinded.

Issued on: June 30, 2014.
Renee Sigel,
Division Administrator, Federal Highway Administration.

[FR Doc. 2014-16136 Filed 7-9-14; 8:45 am]

BILLING CODE P